DEPARTMENT OF COMMERCE

National Oceanic and Atmospheric Administration

RIN 0648-XE031

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council's Summer Flounder, Scup, and Black Sea Bass Monitoring Committee will hold a public meeting.

DATES: The meeting will be held on Thursday, July 23 through Friday, July 24, 2015. For agenda details, see SUPPLEMENTARY INFORMATION.

ADDRESSES: The meeting will be held at Royal Sonesta Harbor Court Baltimore, 550 Light St, Baltimore, MD 21202, telephone: (410) 234-0550.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org will also have details on the meeting location and agenda.

SUPPLEMENTARY INFORMATION: The Summer Flounder, Scup, and Black Sea Bass Monitoring Committee will meet from 1 p.m. to 5 p.m. on Thursday, July 23 and from 8 a.m. to 12 p.m. on Friday, July 24 to discuss and recommend 2016 annual catch targets (ACTs) and other associated management measures for the summer flounder, scup, and black sea bass fisheries. Multi-year ACTs and management measures, applicable to fishing years 2016-18, may be considered.

Special Accommodations

These meetings are physically accessible to people with disabilities. Requests for sign language interpretation or other auxiliary aid should be directed to M. Jan Saunders, (302) 526-5251, at least 5 days prior to the meeting date.

Dated: July 6, 2015.
Tracey L. Thompson,
Acting Deputy Director, Office of Sustainable Fisheries, National Marine Fisheries Service.

[FR Doc. 2015-16788 Filed 7-8-15; 8:45 am]

BILLING CODE 3510-22-P